DEPARTMENT OF THE TREASURY

Alcohol and Tobacco Tax and Trade Bureau

27 CFR Part 9

[Docket No. TTB-2014-0006; Notice No. 144]

RIN 1513-AC09

Proposed Establishment of the Fountaingrove District Viticultural Area

AGENCY: Alcohol and Tobacco Tax and Trade Bureau, Treasury.

ACTION: Notice of proposed rulemaking.

SUMMARY: The Alcohol and Tobacco Tax and Trade Bureau (TTB) proposes to establish the approximately 38,000-acre “Fountaingrove District” viticultural area in Sonoma County, California. The proposed viticultural area lies entirely within the larger, multicounty North Coast viticultural area. TTB designates viticultural areas to allow vintners to better describe the origin of their wines and to allow consumers to better identify wines they may purchase. TTB invites comments on this proposed addition to its regulations.

DATES: Comments must be received by August 29, 2014.

ADDRESSES: Please send your comments on this notice to one of the following addresses (please note that TTB has a new address for comments submitted by U.S. mail):

• Internet: http://www.regulations.gov (via the online comment form for this notice as posted within Docket No. TTB-2014-0006 at “Regulations.gov,” the Federal e-rulemaking portal);

• U.S. Mail: Director, Regulations and Rulings Division, Alcohol and Tobacco Tax and Trade Bureau, 1310 G Street NW., Box 12, Washington, DC 20005; or

• Hand delivery/courier in lieu of mail: Alcohol and Tobacco Tax and Trade Bureau, 1310 G Street NW., Suite 200-E, Washington, DC 20005.

See the Public Participation section of this notice for specific instructions and requirements for submitting comments, and for information on how to request a public hearing or obtain or review copies of the petition and supporting materials.

FOR FURTHER INFORMATION CONTACT: Karen A. Thornton, Regulations and Rulings Division, Alcohol and Tobacco Tax and Trade Bureau, 1310 G Street NW., Box 12, Washington, DC 20005; phone 202-453-1039, ext. 175.

SUPPLEMENTARY INFORMATION:

Background on Viticultural Areas

TTB Authority

Section 105(e) of the Federal Alcohol Administration Act (FAA Act), 27 U.S.C. 205(e), authorizes the Secretary of the Treasury to prescribe regulations for the labeling of wine, distilled spirits, and malt beverages. The FAA Act provides that these regulations should, among other things, prohibit consumer deception and the use of misleading statements on labels and ensure that labels provide the consumer with adequate information as to the identity and quality of the product. The Alcohol and Tobacco Tax and Trade Bureau (TTB) administers the FAA Act pursuant to section 1111(d) of the Homeland Security Act of 2002, codified at 6 U.S.C. 531(d). The Secretary has delegated various authorities through Treasury Department Order 120-01 (Revised), dated December 10, 2013, to the TTB Administrator to perform the functions and duties in the administration and enforcement of this law.

Part 4 of the TTB regulations (27 CFR part 4) authorizes the establishment of definitive viticultural areas and the use of their names as appellations of origin on wine labels and in wine advertisements. Part 9 of the TTB regulations (27 CFR part 9) sets forth standards for the preparation and submission to TTB of petitions for the establishment or modification of American viticultural areas (AVAs) and lists the approved AVAs.

Definition

Section 4.25(e)(1)(i) of the TTB regulations (27 CFR 4.25(e)(1)(i)) defines a viticultural area for American wine as a delimited grape-growing region having distinguishing features as described in part 9 of the regulations and a name and a delineated boundary as established in part 9 of the regulations. These designations allow vintners and consumers to attribute a given quality, reputation, or other characteristic of a wine made from grapes grown in an area to the wine's geographic origin. The establishment of AVAs allows vintners to describe more accurately the origin of their wines to consumers and helps consumers to identify wines they may purchase. Establishment of an AVA is neither an approval nor an endorsement by TTB of the wine produced in that area.

Requirements

Section 4.25(e)(2) of the TTB regulations outlines the procedure for proposing the establishment of an AVA and provides that any interested party may petition TTB to establish a grape-growing region as an AVA. Section 9.12 of the TTB regulations (27 CFR 9.12) prescribes the standards for petitions requesting the establishment or modification of AVAs. Petitions to establish an AVA must include the following:

• Evidence that the region within the proposed AVA boundary is nationally or locally known by the AVA name specified in the petition;

• An explanation of the basis for defining the boundary of the proposed AVA;

• A narrative description of the features of the proposed AVA that affect viticulture, such as climate, geology, soils, physical features, and elevation, that make the proposed AVA distinctive and distinguish it from adjacent areas outside the proposed AVA;

• The appropriate United States Geological Survey (USGS) map(s) showing the location of the proposed AVA, with the boundary of the proposed AVA clearly drawn thereon; and

• A detailed narrative description of the proposed AVA boundary based on USGS map markings.

Fountaingrove District Petition

TTB received a petition from Douglas Grigg of Walnut Hill Vineyards, LLC, on behalf of the Fountaingrove Appellation Committee, proposing the establishment of the “Fountaingrove District” AVA in Sonoma County, California. The committee originally proposed the name “Fountaingrove” but later requested to change the name to “Fountaingrove District” in order to avoid affecting current use of the word “Fountaingrove,” standing alone, in brand names on wine labels. The proposed AVA contains approximately 38,000 acres and has approximately 35 commercially-producing vineyards covering a total of 500 acres. Cabernet sauvignon, chardonnay, sauvignon blanc, merlot, cabernet franc, zinfandel, syrah, and viognier are the primary grape varieties grown within the proposed AVA. According to the petition, the distinguishing features of the proposed Fountaingrove District AVA include temperature, soils, and topography. Unless otherwise noted, all information and data pertaining to the proposed AVA contained in this document are from the petition for the proposed Fountaingrove District AVA and its supporting exhibits.

The proposed Fountaingrove District AVA is located in Sonoma County, California, northeast of the city of Santa Rosa. The proposed AVA lies within the larger, multicounty North Coast AVA (27 CFR 9.30). The proposed Fountaingrove District AVA shares its boundaries with the established Russian River Valley (27 CFR 9.66), Chalk Hill (27 CFR 9.52), Knights Valley (27 CFR 9.76), Calistoga (27 CFR 9.209), Diamond Mountain District (27 CFR 9.166), Spring Mountain District (27 CFR 9.143), and Sonoma Valley (27 CFR 9.29) AVAs, but does not overlap any of these AVAs. As it was originally submitted, the petition first proposed a western boundary that slightly overlapped the established Russian River Valley AVA, but after discussions with TTB, the petitioner adjusted the proposed boundary to follow the established Russian River Valley AVA boundary because the original proposed boundary would have resulted in dividing at least one existing vineyard between Russian River Valley AVA and the proposed Fountaingrove District AVA.

Name Evidence

The proposed Fountaingrove District AVA derives its name from the historic community of Fountain Grove, a utopian colony founded northeast of the city of Santa Rosa in 1875 by Thomas Lake Harris. The community included 400 acres of vineyards and a winery. By 1882, the winery was producing 70,000 gallons of wine per year, making it one of the 10 largest wineries in California at that time.

In 1880, Harris appointed his California lieutenant, Kanaye Nagasawa, to take charge of the vineyard and winery operations and act as developer and manager of the community's 2,000 acres of vineyards. In 1900, Harris sold his interest in the vineyards and winery to Nagasawa and five other members of the commune, and by 1908, Nagasawa was the sole surviving owner of the Fountain Grove vineyards and winery. During Prohibition, he kept the vineyards and winery facilities productive by producing grape juice and cooking sherry. After Prohibition was repealed in 1933, Nagasawa changed the name of the winery and the community to “Fountaingrove.” Nagasawa died in 1934, and the property was eventually sold and turned into a cattle ranch.

Although the original community no longer exists and the original Fountaingrove Winery remains only as a few abandoned buildings, the name “Fountaingrove” is still associated with the region of the proposed Fountaingrove District AVA. The petition notes that several modern subdivisions within the proposed AVA bear the “Fountaingrove” name, including Fountaingrove Ranch, Fountaingrove Village, Fountaingrove II, and the Meadows at Fountaingrove, which are all built on portions of the original Fountaingrove community and vineyards. Fountaingrove Parkway is a road that runs through the southwestern portion of the proposed AVA. Fountaingrove Lake is a large reservoir within the proposed AVA. Finally, the petition listed several businesses within the proposed AVA that use the name “Fountaingrove,” including Fountaingrove Inn Hotel and Conference Center, Fountaingrove Lodge Retirement Community, Fountaingrove Golf and Athletic Club, Fountaingrove Realty, Fountaingrove MedSpa, Fountaingrove Dentistry, Fountaingrove Deli, and Fountaingrove Cleaners.

Boundary Evidence

The proposed AVA is a region of rolling hills and steeper mountains with elevations that range from approximately 400 feet near the city of Santa Rosa, at the southwestern boundary of the proposed AVA, to approximately 2,200 feet in the eastern portion of the proposed AVA, near the Sonoma-Napa County line.

The proposed boundary follows a series of elevation contours, roads, county lines, USGS map section lines, and straight lines between points marked on the relevant USGS maps. The northern portion of the proposed boundary is shared with the southern boundaries of the established Knights Valley and Chalk Hill AVAs. The eastern portion of the proposed boundary is formed by a ridgeline in the Mayacmas Mountains that forms the Sonoma-Napa County line. This portion of the proposed boundary is shared with the established Calistoga, Diamond Mountain District, and Spring Mountain District AVAs. Part of the southern portion of the proposed boundary is shared with the established Sonoma Valley AVA. The remainder of the proposed southern boundary separates the hills and mountains of the proposed AVA from the flat, urbanized terrain of the city of Santa Rosa. The western portion of the proposed boundary is shared with the established Russian River Valley AVA. The differences between the proposed Fountaingrove District AVA and the adjacent established AVAs are discussed below.

Distinguishing Features

The distinguishing features of the proposed Fountaingrove District AVA include its temperature, soils, and topography, and these are discussed in detail below.

Temperature

The temperature of the proposed Fountaingrove District AVA is moderated by cool breezes from the Pacific Ocean. The breezes enter the region through a gap in the Sonoma Mountains between Taylor Mountain (located south of the city of Santa Rosa) and Redwood Hill (located north of the city). Because of the marine influence, the median growing season temperature within the proposed AVA is 63.9 degrees Fahrenheit. The petition provided the growing degree day units (GDD units),¹ calculated in degrees Celsius (C), for 16 vineyards distributed throughout the proposed AVA, and the petitioner determined the median number of GDD units for the entire proposed AVA was 1,663.² According to the Winkler scale, this figure places the proposed AVA in the Warm Region II category.

¹ In the Winkler climate classification system, annual heat accumulation during the growing season, measured in annual GDD, defines climatic regions. One GDD accumulates for each degree Fahrenheit that a day's mean temperature is above 50 degrees Fahrenheit (10 degrees Celsius), the minimum temperature required for grapevine growth. For temperatures measured in degrees Celsius, the GDD ranges are defined as Region I, for fewer than 1,388 GDD units, Region II from 1,388-1,667 GDD units, Region III for 1,667-1,944 GDD units, Region IV for 1,944-2,222 GDD units, and Region V for more than 2,222 GDD units (See Albert J. Winkler, General Viticulture (Berkley: University of California Press, 1974), 61-64).

² The GDD data was derived from 1971-2000 climate normals using the data mapping system of the PRISM Climate Group at Oregon State University. The PRISM mapping system combined climate normals gathered from weather stations to estimate the general climate patterns for the proposed AVA and the surrounding regions. Climate normals are only calculated every 10 years, using 30 years of data, and at the time the petition was submitted, the most recent climate normals available were from the period of 1971-2000.

The following table was included in the petition and compares the median growing season temperatures and GDD units of the proposed Fountaingrove District AVA to those of the surrounding established AVAs.

AVA name | Direction from proposed AVA | Average growing season temperature (Celsius) | Average GDD unit accumulation | Winkler category
Fountaingrove District | N/A | 17.7 | 1,663 | Warm Region II.
Russian River Valley | West | 17.1 | 1,520 | Region II.
Bennett Valley | Southwest | 17.4 | 1,589 | Region II.
Chalk Hill | North | 17.6 | 1,634 | Warm Region II.
Sonoma Valley | South | 17.8 | 1,676 | Cool Region III.
Knights Valley | North | 18.3 | 1,788 | Region III.
Spring Mountain District | East | 18.3 | 1,785 | Region III.
Diamond Mountain District | East | 18.7 | 1,818 | Region III.

According to the table, the proposed Fountaingrove District AVA is generally warmer than the region to the west and cooler than the region to the east. The temperatures within the Chalk Hill AVA, which is north of the proposed AVA, are similar to those in the Fountaingrove District; however, the Knights Valley AVA, which is also north of the proposed AVA, has significantly more GDD units than the proposed Fountaingrove District AVA because the higher hillsides of the Knights Valley AVA shelter its broad valley floor from the marine breezes. The Sonoma Valley AVA, immediately adjacent to the southern boundary of the proposed Fountaingrove District AVA, is slightly warmer.

The petition states that although the temperature differences between the proposed Fountaingrove District AVA and the surrounding regions appear slight, they do have a significant effect on viticulture. The petition includes a chart grouping grape varietals by maturation times based on average growing season temperatures.³ According to the chart, most varietals only ripen successfully (meaning they achieve desired levels of acidity, sugars, and flavors) within a 3-to-4 degree C range of temperatures. As a result, cool-climate pinot noir grapes ripen successfully in the cooler temperatures of the neighboring Russian River Valley AVA, but do not grow reliably within the proposed Fountaingrove District AVA, according to the petition.

³ Gregory V. Jones et al., “Climate and Wine: Quality Issues in a Warmer World,” Climate Change, pages 319-343, December 1, 2005.

The petition notes that even the same varietal of grapes grown at opposite ends of the small range of “optimal” temperatures will have different characteristics. For example, the petition states that chardonnay grown in a Warm Region II area, such as the proposed Fountaingrove District AVA, will have a tropical fruit flavor, whereas chardonnay grown in a cooler area will produce a drier, more mineral-like flavor. Likewise, cabernet sauvignon, one of the most commonly grown grapes in the proposed AVA, produces a lower alcohol wine with subtle flavors when grown in a Warm Region II area, but often produces wines with higher alcohol content and riper flavors when grown in Region III and Region IV areas. Vintners consider these flavor and alcohol differences when producing and blending their wines.

Soils

The soils within the proposed Fountaingrove District AVA are derived primarily from Sonoma Volcanic and Franciscan Formation bedrock. The volcanic soils include Goulding, Spreckels, Laniger, and Felta series soils, which consist of pumiceous ash-flow tuff, and Guenoc and Toomes series soils, which consist of basalt lava. These volcanic soils are described in the petition as being well-drained and having a balance of nutrients favorable for grape-growing. Soils derived from the Franciscan Complex include the Boomer and Henneke series. Henneke soils contain the mineral serpentine, which has high levels of nickel and can be toxic to grapevines unless the soil is ameliorated to lower the levels. Soils of the Boomer series have desirably high levels of iron, which is an essential element for vine growth and fruit development.

The following table shows the soil types found within the proposed Fountaingrove District AVA and the surrounding established AVAs.

Soil series | AVA name and direction from proposed AVA: Chalk Hill (North) | AVA name and direction from proposed AVA: Russian River Valley (West) | AVA name and direction from proposed AVA: Sonoma Valley (South) | AVA name and direction from proposed AVA: Knights Valley (North) | AVA name and direction from proposed AVA: Diamond Mountain District (East) | AVA name and direction from proposed AVA: Spring Mountain District (East) | Proposed Fountaingrove District
Sonoma Volcanics
Goulding |  |  | X | X | X | X | X
Laniger |  |  |  | X |  |  | X
Felta | X | X | X |  |  |  | X
Forward |  |  | X | X | X | X |
Spreckels | X | X | X |  |  |  | X
Toomes | X | X |  | X |  |  | X
Guenoc |  |  |  |  |  |  | X
Kidd |  |  |  |  | X | X |
Sobrante |  |  |  |  |  | X | X
Hambright |  |  |  |  | X |  |
Franciscan Complex
Dibble | X | X |  |  |  |  |
Maymen |  |  |  |  |  | X | X
Laughlin |  | X |  | X |  |  |
Boomer |  |  |  |  | X | X | X
Aiken |  |  |  |  | X | X | X
Red Hill |  |  | X | X |  |  |
Suther |  |  |  | X |  |  | X
Yorkville * |  | X |  | X |  |  | X
Henneke * |  |  |  |  |  | X | X
Raynor * |  |  |  |  |  |  | X
Montara * | X | X |  |  |  |  | X
River and Terrace Deposits
Cotati |  | X |  |  |  |  |
Wright |  | X | X |  |  |  |
Clear Lake |  | X | X |  |  |  |
Arbuckle | X | X |  | X |  |  |
Huichica | X | X | X |  |  |  |
Yolo | X | X |  | X |  |  | X
Zamora |  | X | X |  |  |  |
Pleasanton |  |  |  |  |  | X | X
Cortina |  |  |  | X |  |  |
Haire | X | X | X | X |  |  | X
Clough |  |  | X | X |  |  |
Positas | X | X |  |  |  |  |
Wilson Grove Formation
Goldridge |  | X |  |  |  |  |
* Indicates soil contains serpentine.

As shown in the table, the proposed Fountaingrove District AVA has a greater diversity of soils than the surrounding AVAs. The proposed AVA has fewer soils derived from river and terrace deposits than most of the surrounding established AVAs. The petition states that soils comprised of river and terrace deposits are generally not as well-drained as volcanic soils and may require artificial drainage. Compared to the surrounding regions, the proposed AVA also has more soils that contain nickel-rich serpentine, which can be toxic to grapevines in high levels. Therefore, soils that contain serpentine must often be ameliorated in order to reduce the nickel levels so that the vines can grow.

Topography

The proposed Fountaingrove District AVA is located on the western slopes of the Mayacmas Mountains, northeast of the city of Santa Rosa. The topography consists of low rolling hills and higher, steeper mountains. Although there are some narrow floodplains along creeks, the proposed AVA lacks the broad valley floors and floodplains that characterize several of the surrounding established AVAs. The slopes within the proposed AVA are primarily oriented towards the southwest. Elevations range from approximately 400 feet to approximately 2,200 feet, and all of the vineyards within the proposed Fountaingrove District AVA are planted at elevations between 450 and 2,115 feet.

Topography affects viticulture within the proposed AVA. According to the petition, the hillsides form a “thermal belt” that traps warm air, resulting in nighttime temperatures that are warmer than those of the lower, flatter valleys of the surrounding regions. The warmer temperatures reduce the risk of frost in the late spring and early fall. The southwest aspect of most of the slopes within the proposed AVA allows vineyards to be planted where they can receive the maximum amount of sunlight and warmth.

Immediately to the west of the proposed AVA is the Russian River Valley AVA. Elevations in the region begin at approximately 600 feet along the border shared with the proposed Fountaingrove District AVA and become lower and flatter southwest of the proposed AVA, within the city of Santa Rosa. Elevations within much of the city are between 100 and 200 feet.

To the north of the proposed AVA are the Chalk Hill and Knights Valley AVAs. The Chalk Hill AVA has a mountainous terrain with elevations similar to those of the proposed Fountaingrove District AVA, but the soils within the Chalk Hill AVA distinguish it from the proposed AVA, as discussed later in this document. The Knights Valley AVA has generally lower elevations and contains the broad, flat Knights Valley and Franz Valley.

To the east of the proposed AVA are the Calistoga, Spring Mountain District, and Diamond Mountain District AVAs, which have elevations and terrain similar to the proposed AVA. However, moving east, the mountainous topography of the Calistoga AVA quickly lowers to elevations of around 300 feet within the broad, flat Napa Valley. The slopes of the three established AVAs primarily face northeast, compared to the southwest-facing slopes of the proposed AVA. Because the established AVAs are located mostly on the lee side of the Mayacmas Mountains, they are subject to less maritime influence than the proposed Fountaingrove District AVA.

To the south of the proposed AVA, the Sonoma Valley AVA is marked by a long, flat valley surrounded by the Mayacmas Mountains to the east and the Sonoma Mountains to the west. The Sonoma Valley AVA receives less of the cooling marine air than the proposed Fountaingrove District AVA because of the shielding effect of the Sonoma Mountains.

Summary of Distinguishing Features

In summary, the temperature, soils, and topography of the proposed Fountaingrove District AVA distinguish it from the surrounding adjacent AVAs. Compared to the proposed Fountaingrove District AVA, the Chalk Hill and Knights Valley AVAs to the north both have more soils derived from river and terrace deposits. Additionally, the Knights Valley AVA has warmer temperatures and significantly larger valleys than the proposed AVA. To the east, the Calistoga, Spring Mountain District, and Diamond Mountain District AVAs are warmer, have less soil diversity, and have mountain slopes oriented to the northeast. To the south, the Sonoma Valley AVA is warmer, has more alluvial soils, and is dominated by a large, flat valley rather than rolling hills and steeper mountains. To the west, the Russian River Valley AVA has cooler temperatures, more alluvial soils, and generally lower and flatter elevations.

Comparison of the Proposed Fountaingrove District AVA to the Existing North Coast AVA

The North Coast AVA was established by T.D. ATF-145, published in the Federal Register on September 21, 1983 (48 FR 42973). It includes all or portions of Napa, Sonoma, Mendocino, Lake, Marin, and Solano Counties, California. TTB notes that the North Coast AVA contains all or portions of approximately 40 established AVAs, in addition to the area covered by the proposed Fountaingrove District AVA. In the conclusion of the “Geographical Features” section of the preamble, T.D. ATF-145 states that “[d]ue to the enormous size of the North Coast, variations exist in climatic features such as temperature, rainfall, and fog intrusion.”

The proposed Fountaingrove District AVA shares the basic viticultural feature of the North Coast AVA--the marine influence that moderates growing season temperatures in the area. However, the proposed AVA is much more uniform in its temperature, soils, and topography than the diverse, multicounty North Coast AVA. In this regard, TTB notes that T.D. ATF-145 specifically states that “approval of this viticultural area does not preclude approval of additional areas, either wholly contained with the North Coast, or partially overlapping the North Coast,” and that “smaller viticultural areas tend to be more uniform in their geographical and climatic characteristics, while very large areas such as the North Coast tend to exhibit generally similar characteristics, in this case the influence of maritime air off of the Pacific Ocean and San Pablo Bay.” Thus, the proposal to establish the Fountaingrove District AVA is not inconsistent with what was envisioned when the North Coast AVA was established.

TTB Determination

TTB concludes that the petition to establish the approximately 38,000-acre Fountaingrove District AVA merits consideration and public comment, as invited in this notice.

Boundary Description

See the narrative description of boundary for the petitioned-for AVA in the proposed regulatory text published at the end of this proposed rule.

Maps

The petitioner provided the required maps, and they are listed below in the proposed regulatory text.

Impact on Current Wine Labels

Part 4 of the TTB regulations prohibits any label reference on a wine that indicates or implies an origin other than the wine's true place of origin. For a wine to be labeled with an AVA name or with a brand name that includes an AVA name, at least 85 percent of the wine must be derived from grapes grown within the area represented by that name, and the wine must meet the other conditions listed in § 4.25(e)(3) of the TTB regulations (27 CFR 4.25(e)(3)). If the wine is not eligible for labeling with an AVA name and that name appears in the brand name, then the label is not in compliance, and the bottler must change the brand name and obtain approval of a new label. Similarly, if the AVA name appears in another reference on the label in a misleading manner, the bottler would have to obtain approval of a new label. Different rules apply if a wine has a brand name containing an AVA name that was used as a brand name on a label approved before July 7, 1986. See § 4.39(i)(2) of the TTB regulations (27 CFR 4.39(i)(2)) for details.

If TTB establishes this proposed AVA, its name, “Fountaingrove District,” will be recognized as a name of viticultural significance under § 4.39(i)(3) of the TTB regulations (27 CFR 4.39(i)(3)). The text of the proposed regulation clarifies this point. Consequently, wine bottlers using the name “Fountaingrove District” in a brand name, including a trademark, or in another label reference as to the origin of the wine, would have to ensure that the product is eligible to use the AVA name as an appellation of origin if this proposed rule is adopted as a final rule. TTB does not believe that “Fountaingrove,” standing alone, should have viticultural significance if the proposed AVA is established, due to the current use of “Fountaingrove,” standing alone, as a brand name on wine labels. Accordingly, the proposed part 9 regulatory text set forth in this document specifies only the full name “Fountaingrove District” as a term of viticultural significance for purposes of part 4 of the TTB regulations. Wine labels using either “Fountaingrove” or “Fountain Grove,” standing alone, would not be affected if the proposed Fountaingrove District AVA is established.

The approval of the proposed Fountaingrove District AVA would not affect any existing AVA, and any bottlers using “North Coast” as an appellation of origin or in a brand name for wines made from grapes grown within the North Coast AVA would not be affected by the establishment of this new AVA. The establishment of the proposed Fountaingrove District AVA would allow vintners to use “Fountaingrove District” and “North Coast” as appellations of origin for wines made from grapes grown within the proposed Fountaingrove District AVA, if the wines meet the eligibility requirements for the appellation.

Public Participation

Comments Invited

TTB invites comments from interested members of the public on whether it should establish the proposed AVA. TTB is also interested in receiving comments on the sufficiency and accuracy of the name, boundary, soils, climate, and other required information submitted in support of the petition. In addition, given the proposed Fountaingrove District AVA's location within the existing North Coast AVA, TTB is interested in comments on whether the evidence submitted in the petition regarding the distinguishing features of the proposed AVA sufficiently differentiates it from the existing North Coast AVA. TTB is also interested in comments whether the geographic features of the proposed AVA are so distinguishable from the surrounding North Coast AVA that the proposed Fountaingrove District AVA should no longer be part of that AVA. Please provide any available specific information in support of your comments.

Because of the potential impact of the establishment of the proposed Fountaingrove District AVA on wine labels that include the term “Fountaingrove District” as discussed above under Impact on Current Wine Labels, TTB is particularly interested in comments regarding whether there will be a conflict between the proposed AVA name and currently used brand names. If a commenter believes that a conflict will arise, the comment should describe the nature of that conflict, including any anticipated negative economic impact that approval of the proposed AVA will have on an existing viticultural enterprise. TTB is also interested in receiving suggestions for ways to avoid conflicts, for example, by adopting a modified or different name for the AVA.

Submitting Comments

You may submit comments on this notice by using one of the following three methods (please note that TTB has a new address for comments submitted by U.S. Mail):

• Federal e-Rulemaking Portal: You may send comments via the online comment form posted with this notice within Docket No. TTB-2014-0006 on “Regulations.gov,” the Federale-rulemaking portal, at http://www.regulations.gov. A direct link to that docket is available under Notice No. 144 on the TTB Web site at http://www.ttb.gov/wine/wine-rulemaking.shtml. Supplemental files may be attached to comments submitted via Regulations.gov. For complete instructions on how to use Regulations.gov, visit the site and click on the “Help” tab.

• U.S. Mail: You may send comments via postal mail to the Director, Regulations and Rulings Division, Alcohol and Tobacco Tax and Trade Bureau, 1310 G Street NW., Box 12, Washington, DC 20005.

• Hand Delivery/Courier: You may hand-carry your comments or have them hand-carried to the Alcohol and Tobacco Tax and Trade Bureau, 1310 G Street NW., Suite 200-E, Washington, DC 20005.

Please submit your comments by the closing date shown above in this notice. Your comments must reference Notice No. 144 and include your name and mailing address. Your comments also must be made in English, be legible, and be written in language acceptable for public disclosure. TTB does not acknowledge receipt of comments, and TTB considers all comments as originals.

In your comment, please clearly state if you are commenting for yourself or on behalf of an association, business, or other entity. If you are commenting on behalf of an entity, your comment must include the entity's name as well as your name and position title. If you comment via Regulations.gov, please enter the entity's name in the “Organization” blank of the online comment form. If you comment via postal mail or hand delivery/courier, please submit your entity's comment on letterhead.

You may also write to the Administrator before the comment closing date to ask for a public hearing. The Administrator reserves the right to determine whether to hold a public hearing.

Confidentiality

All submitted comments and attachments are part of the public record and subject to disclosure. Do not enclose any material in your comments that you consider to be confidential or inappropriate for public disclosure.

Public Disclosure

TTB will post, and you may view, copies of this notice, selected supporting materials, and any online or mailed comments received about this proposal within Docket No. TTB-2014-0006 on the Federal e-rulemaking portal, Regulations.gov, at http://www.regulations.gov. A direct link to that docket is available on the TTB Web site at http://www.ttb.gov/wine/wine_rulemaking.shtml under Notice No. 144. You may also reach the relevant docket through the Regulations.gov search page at http://www.regulations.gov. For information on how to use Regulations.gov, click on the site's “Help” tab.

All posted comments will display the commenter's name, organization (if any), city, and State, and, in the case of mailed comments, all address information, including email addresses. TTB may omit voluminous attachments or material that the Bureau considers unsuitable for posting.

You may also view copies of this notice, all related petitions, maps and other supporting materials, and any electronic or mailed comments that TTB receives about this proposal by appointment at the TTB Information Resource Center, 1310 G Street NW., Washington, DC 20005. You may also obtain copies at 20 cents per 8.5- x 11-inch page. Please note that TTB is unable to provide copies of the USGS quadrangle maps or any similarly sized documents that may be included as part of the AVA petition. Contact TTB's information specialist at the above address or by telephone at 202-453-2270 to schedule an appointment or to request copies of comments or other materials.

Regulatory Flexibility Act

TTB certifies that this proposed regulation, if adopted, would not have a significant economic impact on a substantial number of small entities. The proposed regulation imposes no new reporting, recordkeeping, or other administrative requirement. Any benefit derived from the use of a viticultural area name would be the result of a proprietor's efforts and consumer acceptance of wines from that area. Therefore, no regulatory flexibility analysis is required.

Executive Order 12866

It has been determined that this proposed rule is not a significant regulatory action as defined by Executive Order 12866 of September 30, 1993. Therefore, no regulatory assessment is required.

Drafting Information

Karen A. Thornton of the Regulations and Rulings Division drafted this notice of proposed rulemaking.

List of Subjects in 27 CFR Part 9

Wine.

Proposed Regulatory Amendment

For the reasons discussed in the preamble, TTB proposes to amend title 27, chapter I, part 9, Code of Federal Regulations, as follows:

PART 9—AMERICAN VITICULTURAL AREAS

1. The authority citation for part 9 continues to read as follows:

Authority: 27 U.S.C. 205.

Subpart C—Approved American Viticultural Areas

2. Subpart C is amended by adding § 9.__ to read as follows:

§ 9.__ Fountaingrove District.

(a) Name. The name of the viticultural area described in this section is “Fountaingrove District.” For purposes of part 4 of this chapter, “Fountaingrove District” is a term of viticultural significance.

(b) Approved maps. The four United States Geological Survey (USGS) 1:24,000 scale topographic maps used to determine the boundary of the Fountaingrove District viticultural area are titled:

(1) Mark West Springs, CA; 1993;

(2) Calistoga, CA; 1997;

(3) Kenwood, CA; 1954; photorevised 1980; and

(4) Santa Rosa, CA; 1994.

(c) Boundary. The Fountaingrove District viticultural area is located in Sonoma County, California. The boundary of the Fountaingrove District viticultural area is as described below:

(1) The beginning point is on the Mark West Springs map at the intersection of the shared Sonoma-Napa County line with Petrified Forest Road, section 3, T8N/R7W.

(2) From the beginning point, proceed southeasterly along the Sonoma-Napa County line, crossing onto the Calistoga map and then the Kenwood map, to the marked 2,530-peak of an unnamed mountain, section 9, T7N/R6W; then

(3) Proceed west-southwest in a straight line to the marked 2,730-foot summit of Mt. Hood, section 8, T7N/R6W; then

(4) Proceed west-northwest in a straight line to the marked 1,542-foot summit of Buzzard Peak, section 11, T7N/R7W; then

(5) Proceed west-southwest in a straight line, crossing onto the Santa Rosa map, to the intersection of State Highway 12 and Los Alamos Road; then

(6) Proceed due north in a straight line to the southern boundary of section 9, T7N/R7W; then

(7) Proceed west-northwest along the southern boundaries of sections 9, 4, and 5, T7N/R7W, to the western boundary of the Los Guilicos Land Grant; then

(8) Proceed west-southwest along the southern boundaries of sections 5, 6, and 7, T7N/R7W; then continue west-southwest along the southern boundaries of sections 12 and 11, T7N/R8W, to the point where the section 11 boundary becomes concurrent with an unnamed light-duty road known locally as Lewis Road; and then continue west-southwest along Lewis Road to the road's intersection with Mendocino Avenue in Santa Rosa; then

(9) Proceed north-northwesterly along Mendocino Avenue to the road's intersection with an unnamed road known locally as Bicentennial Way; then

(10) Proceed north in a straight line, crossing through the marked 906-foot elevation peak in section 35, T8N/R8W, and, crossing on to the Mark West Springs map, continue to the line's intersection with Mark West Springs Road, section 26, T8N/R8W; then

(11) Proceed northerly along Mark West Springs Road, which turns easterly and becomes Porter Creek Road, to the road's intersection with Franz Valley Road, section 12, T8N/R8W; then

(12) Proceed northeasterly along Franz Valley Road to the western boundary of section 6, T8N/R7W; then

(13) Proceed south along the western boundary of section 6, T8N/R7W, to the southwest corner of section 6; then

(14) Proceed east, then east-northeast along the southern boundaries of sections 6, 5, and 4, T8N/R7W, to the southeast corner of section 4; then

(15) Proceed north along the eastern boundary of section 4, T8N/R7W, to the Sonoma-Napa County line; then

(16) Proceed easterly along the Sonoma-Napa County line to the beginning point.

Dated: June 23, 2014.
John J. Manfreda,
Administrator.

[FR Doc. 2014-15212 Filed 6-27-14; 8:45 am]

BILLING CODE 4810-31-P